DEPARTMENT OF HEALTH AND HUMAN SERVICES

Food and Drug Administration

[Docket No. FDA-2010-N-0646]

Agency Information Collection Activities; Announcement of Office of Management and Budget Approval; Tobacco Products, Exemptions From Substantial Equivalence Requirements; Correction

AGENCY: Food and Drug Administration, HHS.

ACTION: Notice; correction.

SUMMARY: The Food and Drug Administration (FDA) is correcting a notice that appeared in the Federal Register of September 12, 2011 (76 FR 56200). The document announced that an information collection had been approved by the Office of Management and Budget (OMB). The document was published with an incorrect expiration date. This document corrects that error.

FOR FURTHER INFORMATION CONTACT: Joyce Strong, Office of Policy, Food and Drug Administration, 10903 New Hampshire Ave., Bldg. 32, Rm. 3208, Silver Spring, MD 20993-0002, 301-796-9148.

SUPPLEMENTARY INFORMATION: In FR Doc. 2011-23184, appearing on page 56200, in the Federal Register of Monday, September 12, 2011, the following correction is made:

1. On page 56200, in the first column, under the SUPPLEMENTARY INFORMATION section, the sentence “The approval expires on August 14, 2014.” is corrected to read “The approval expires on August 31, 2014.”

Dated: October 3, 2011.
David Dorsey,
Acting Associate Commissioner for Policy and Planning.

[FR Doc. 2011-25967 Filed 10-6-11; 8:45 am]

BILLING CODE 4160-01-P